DEPARTMENT OF ENERGY

Federal Energy Regulatory Commission

[Project No. 12711-005]

Ocean Renewable Power Company Maine, LLC; Notice of Staff Participation in Meeting

On February 15, 2012, Office of Energy Projects staff will participate in a meeting with representatives from Ocean Renewable Power Company Maine, LLC at the Federal Energy Regulatory Commission's (Commission) Washington, DC office to discuss the draft license articles provided in the Commission's environmental assessment issued on January 4, 2012, for the Cobscook Bay Tidal Energy Project No. 12711.

A teleconference line will be made available for parties wishing to participate. Details on the teleconference are provided below:

Date: February 15, 2012.

Time: 1 p.m.

Call-in Number: (877) 857-1347.

Meeting ID: 12711.

Password: 12711.

For further information please contact Timothy Konnert at (202) 502-6359, or email at timothy.konnert@ferc.gov.

Dated: January 31, 2012.
Kimberly D. Bose,
Secretary.

[FR Doc. 2012-2571 Filed 2-3-12; 8:45 am]

BILLING CODE 6717-01-P